DEPARTMENT OF THE INTERIOR

[2253-665]

National Park Service

Notice of Intent to Repatriate Cultural Items: Tennessee Valley Authority and the University of Tennessee McClung Museum, Knoxville, TN

AGENCY: National Park Service, Interior.

ACTION: Notice.

SUMMARY: The Tennessee Valley Authority (TVA) and the University of Tennessee McClung Museum (McClung Museum), in consultation with the appropriate Indian tribes, have determined that the cultural items in this notice meet the definition of unassociated funerary objects, and repatriation to the Indian tribes stated below may occur if no additional claimants come forward. Representatives of any Indian tribe that believes itself to be culturally affiliated with the cultural items may contact the TVA and McClung Museum.

DATES: Representatives of any Indian tribe that believes it has a cultural affiliation with the cultural items should contact TVA at the address below by December 29, 2011.

ADDRESSES: Dr. Thomas O. Maher, TVA, 400 West Summit Hill Drive, WT 11D, Knoxville, TN 37902-1401, telephone (865) 632-7458.

SUPPLEMENTARY INFORMATION: Notice is here given in accordance with the Native American Graves Protection and Repatriation Act (NAGPRA), 25 U.S.C. 3005, of the intent to repatriate cultural items in the custody of the McClung Museum and control of TVA, Knoxville, TN that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

From 1967 through the mid 1980's, Native American graves were excavated by professional archeologists from the McClung Museum during TVA's construction of the Tellico reservoir. Five of these sites had historic Overhill Cherokee occupations and graves: Chota, Tanasee, Tomotley, Toqua and Citico. Based on an agreement between TVA and the Eastern Band of Cherokee Indians of North Carolina, historic Cherokee human remains recovered during the Tellico Reservoir project were transferred to the Tribe for reburial in 1986. The objects from these graves, however, continued to be curated by the McClung Museum. Since neither TVA nor the McClung Museum has possession or control of the human remains, the objects are unassociated funerary objects.

Based on both historical documents and oral tradition, the sites of Chota, Tanasee, Tomotley, Toqua and Citico were known to have had Cherokee occupations. Each village is illustrated in a map Lt. Henry Timberlake drafted in 1762, based on his stay with the Cherokee in the lower Little Tennessee River valley.

At the Chota site (40MR2) 54 graves from the historic Overhill Cherokee occupation were excavated. The unassociated funerary objects from these graves include 485 metal artifacts comprised of buttons, bells, nails, rings, buckles, axes, knives and musket balls made from iron, brass, pewter, silver and lead; three glass mirrors or mirror fragments; six glass vessel fragments; one glass bottle; twelve mineral samples including vermillion, barite, and one unshaped piece of smelted lead; four steatite pipes; one catlinite pipe; two clay siltstone pipes; three projectile points; two chert flakes; cloth fragments; one wooden fire horn plug; one conch shell ear pin; a deer metapodial bone; approximately 18,444 glass beads of varying size and color; and 36 beads made from shell.

The Tanasee site (40MR62) is immediately adjacent to the Chota site and initial excavations did not distinguish between them. Seventeen graves are attributed to the Overhill Cherokee occupation at the Tanasee site. The unassociated funerary objects from these graves include 21 projectile points; one chipped stone flake; ten metal objects including brass buttons, a brass arrow point, a brass rumbler bell, iron scissors, strike-a-light and knife blade and other iron and brass fragments; animal bone fragments; one bone comb; one pottery sherd; approximately 10,748 glass beads of various sizes and colors; and 10 beads made from conch shells.

The Tomotley site (40MR5) was excavated as a result of the Tellico Reservoir project. Nineteen graves are attributed to the historic Overhill Cherokee occupation of the site. The funerary objects from these graves include 216 metal objects comprised of iron tacks, knives, a straight razor, needle shanks, and a bayonet; silver objects include a ring, ear rings, brooches and shirt sleeve links; brass wire; brass sheet fragments; one brass necklace; pewter shirt sleeve links; one copper tube; one lead shot and ball; 30 fragments of glass; one glass mirror fragment; botanical remains including burned wood and seven cloth fragments; two lots of vermillion; one piece of lead; one chipped stone gun flint; approximately 8,545 glass beads; one shell bead; and 39 copper beads.

The Toqua site (40MR6) was excavated as a result of the Tellico Reservoir project. Nineteen graves are attributed to the historic Overhill Cherokee occupation of the site. Unassociated funerary objects include 52 pieces of metal comprised of four brass buttons, a bell, wire, bracelets, disks, ornaments, one gun part, one iron gun barrel, strike-a-light, scissors, one hoe, two pewter buttons, a copper kettle, a silver brooch, and three lead musket balls; two projectile points; three gun flints; five chipped stone objects; six shell pendants; three pieces of glass; three samples of red ochre; three mink skull fragments; one piece of cord possibly used with a tinkler; approximately 11,294 glass beads of various sizes and colors; and six shell beads.

The Citico site (40MR7) was excavated as a result of the Tellico Reservoir project. There were twenty-five graves attributed to the historic Overhill Cherokee occupation of the site. The unassociated funerary objects from these graves include 145 objects made of metal including copper objects comprised of five bells, beads, cones used as tinklers, five rings, tubes and pendants; brass items comprised of “C” bracelets, 28 buttons, and a neck collar ornament; iron items comprised of two razors, “C” bracelets, cones used as tinklers, finger rings, a knife, an awl with a bone handle and an axe; three silver tube beads; animal bone; two bone or antler ear pins; leather fragments; five samples of vermillion and red ochre; one quartz crystal; fabric fragments; wood pieces; three shell gorgets; two shell ear pins; one shell bead; one steatite pipe; one ground whetstone; and approximately 3,949 glass beads of various sizes and colors.

Determinations Made by the TVA and McClung Museum

Officials of the TVA and McClung Museum have determined that:

• Pursuant to 25 U.S.C. 3001(3)(B), the approximately 54,000 cultural items of which approximately 53,000 are glass beads described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects above and the Cherokee Nation, Oklahoma; Eastern Band of Cherokee Indians of North Carolina; and the United Keetoowah Band of Cherokee Indians in Oklahoma (hereinafter referred to as “The Tribes”).

Additional Requestors and Disposition

Representatives of any other Indian tribe that believes itself to be culturally affiliated with the unassociated funerary objects should contact Dr. Thomas O. Maher, TVA, 400 West Summit Hill Drive, WT 11D, Knoxville, TN 37902-1401, telephone (865) 632-7458 before December 29, 2011. Repatriation of the unassociated funerary objects to The Tribes may proceed after that date if no additional claimants come forward.

The TVA is responsible for notifying The Tribes that this notice has been published.

Dated: November 22, 2011.
Sherry Hutt,
Manager, National NAGPRA Program.

[FR Doc. 2011-30618 Filed 11-28-11; 8:45 am]

BILLING CODE 4312-50-P